DEPARTMENT OF LABOR

Employment and Training Administration

Announcement Regarding States Triggering “On” and “Off” in the Emergency Unemployment Compensation 2008 (EUC08) Program and the Federal-State Extended Benefits (EB) Program

AGENCY: Employment and Training Administration, Labor.

ACTION: Notice.

SUMMARY: Announcement regarding states triggering “on” and “off” in the Emergency Unemployment Compensation 2008 (EUC08) Program and the Federal-State Extended Benefits (EB) Program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states' EB and EUC08 trigger status:

• Based on data released by the Bureau of Labor Statistics on June 15, 2012, the three month average, seasonally adjusted total unemployment rate for Nevada (11.7%), New Jersey (9.1%), and Rhode Island (11.1%) did not meet one of the necessary criteria to remain on in the EB program: Having a rate at least ten percent greater than the comparable rate in any of the three prior years. This triggered these states “off” the EB program with the week ending June 16, 2012. The end of the payable period in Nevada, New Jersey, and Rhode Island in the EB program was July 7, 2012.

• Based on data released by the Bureau of Labor Statistics on June 15, 2012, the three month average, seasonally adjusted total unemployment rate for New Mexico and Texas fell below the 7.0% trigger threshold to remain “on” in Tier 3 of the EUC 2008 program. As a result, the maximum potential entitlement for these states in the EUC program decreased from 47 weeks to 34 weeks. The week ending July 7, 2012, was the last week in which EUC claimants in these states could exhaust Tier 2, and establish Tier 3 eligibility. Under the phase-out provisions, claimants can receive any remaining entitlement they have in Tier 3 after July 7, 2012.

• Based on data released by the Bureau of Labor Statistics on June 15, 2012, the three month average, seasonally adjusted total unemployment rate for Florida, Georgia, and Mississippi fell below the 9.0% trigger threshold to remain “on” in Tier 4 of the EUC 2008 program. As a result, the maximum potential entitlement for these states in the EUC program decreased from 53 weeks to 47 weeks. The week ending July 7, 2012, was the last week in which EUC claimants in these states could exhaust Tier 3, and establish Tier 4 eligibility. Under the phase-out provisions, claimants can receive any remaining entitlement they have in Tier 4 after July 7, 2012.

• The week ending June 30, 2012, concluded a mandatory 13-week “off” period in the Virgin Islands for Tier 3 in the EUC 2008 program. Because the current estimated trigger rate for the Virgin Islands is 7.7%, a payable period in Tier 3 has resumed beginning July 1, 2012, and the first payable week for eligible claimants there was the week ending July 7, 2012.

• With the release of national unemployment data by the Bureau of Labor Statistics on July 6, 2012, the estimated three month average, seasonally adjusted total unemployment rate for the Virgin Islands rose above the 9.0% threshold necessary to trigger “on” in Tier 4 of the EUC 2008 program. The 13 week mandatory “off” period for the Virgin Islands in Tier 4 of the EUC 2008 program concluded May 26, 2012, so the Virgin Islands triggered “on” to Tier 4. As a result of this, the maximum potential entitlement for the Virgin Islands in the EUC 2008 program will increase from 47 weeks to 53 weeks. The week beginning July 22, 2012, will be the first week in which EUC claimants in the Virgin Islands who have exhausted Tier 3, and are otherwise eligible, can establish Tier 4 eligibility.

Information for Claimants

The duration of benefits payable in the EUC08 program, and the terms and conditions under which they are payable, are governed by Public Laws 110-252, 110-449, 111-5, 111-92, 111-118, 111-144, 111-157, 111-205, 111-312, 112-96, and the operating instructions issued to the states by the Department. The duration of benefits payable in the EB program, and the terms and conditions on which they are payable, are governed by the Federal-State Extended Unemployment Compensation Act of 1970, as amended, and the operating instructions issued to the states by the Department.

In the case of a state beginning or concluding a payable period in EB or EUC08, the State Workforce Agency will furnish a written notice of any change in potential entitlement to each individual who could establish, or had established, eligibility for benefits (20 CFR 615.13(c)(1) and (c)(4)). Persons who believe they may be entitled to benefits under the EB or EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 24th day of July, 2012.
Jane Oates,
Assistant Secretary for Employment and Training.

[FR Doc. 2012-18535 Filed 7-30-12; 8:45 am]

BILLING CODE 4510-FW-P